DEPARTMENT OF ENERGY

Federal Energy Regulatory Commission

[Project No. 12690-003]

Public Utility District No. 1 of Snohomish County, WA; Notice Concluding Pre-Filing Process and Approving Process Plan and Schedule

a. Type of Filing: Notice of Intent to File a License Application for an Original License for a Hydrokinetic Pilot Project.

b. Project No.: 12690-003.

c. Date Filed: December 28, 2009.

d. Submitted by: Public Utility District No. 1 of Snohomish County, Washington (Snohomish PUD).

e. Name of Project: Admiralty Inlet Pilot Tidal Project.

f. Location: On the east side of Admiralty Inlet in Puget Sound, Washington, about 1 kilometer west of Whidbey Island, entirely within Island County, Washington. The project would not occupy any Federal lands.

g. Filed Pursuant to: 18 CFR 5.3 and 5.5 of the Commission's regulations.

h. Applicant Contact: Steven J. Klein, Public Utility District of Snohomish County, Washington, P.O. Box 1107, 2320, California Street, Everett, WA 98206-1107; (425) 783-8473.

i. FERC Contact: David Turner (202) 502-6091.

j. Snohomish PUD has filed with the Commission: (1) A notice of intent (NOI) to file an application for a pilot hydrokinetic hydropower project and a draft license application with monitoring plans; (2) a request for waivers of certain Integrated Licensing Process (ILP) regulations necessary for expedited processing of a license application for a hydrokinetic pilot project; (3) a proposed process plan and schedule; and (4) a request to be designated as the non-Federal representative for section 7 of the Endangered Species Act (ESA) consultation and for section 106 consultation under the National Historic Preservation Act.

k. A notice was issued on December 30, 2009 soliciting comments on the draft license application from agencies and stakeholders. Comments were filed by Federal and state agencies, and non-governmental organizations.

l. Snohomish PUD was designated as the non-Federal representative for section 7 of the Endangered Species Act consultation and for section 106 consultation under the National Historic Preservation Act on November 7, 2008.

m. The proposed Admiralty Inlet Pilot Tidal Project would consist of (1) Two 10-meter, 500-kilowatt (kW) Open-Centre Turbines supplied by OpenHydro Group Ltd., mounted on completely submerged gravity foundations; (2) two 250-meter service cables connected at a subsea junction box or spliced to a 0.5-kilometer subsea transmission cable, connecting to a cable termination vault about 50 meters from shore; (3) two 81-meter-long buried conduits containing the two DC transmission lines from the turbines and connecting to a power conditioning and control building; (4) a 140-meter-long buried cable from the control building to the grid; and (5) appurtenant facilities for operation and maintenance. The estimated annual generation of the project is 383,000 kilowatt-hours.

n. The pre-filing process has been concluded and the requisite regulations have been waived such that the process and schedule indicated below can be implemented.

o. Post-filing process schedule. The post-filing process will be conducted pursuant to the following schedule. Revisions to the schedule may be made as needed.

Milestones | Dates
Final license application expected | August 31, 2011.
Issue notice of acceptance and ready for environmental analysis and request for interventions | September 15, 2011.
Issue biological assessment | September 15, 2011.
Recommendations, Conditions, Comments and Interventions due | October 17, 2011.
Issue notice of availability of environmental assessment | December 16, 2011.
Comments due and 10(j) resolution, if needed | January 16, 2012.

p. Register online at http://ferc.gov/esubscribenow.htm to be notified via e-mail of new filing and issuances related to this or other pending projects. For assistance, contact FERC Online Support.

Dated: July 7, 2011.
Kimberly D. Bose,
Secretary.

[FR Doc. 2011-17588 Filed 7-12-11; 8:45 am]

BILLING CODE 6717-01-P